DEPARTMENT OF COMMERCE

National Oceanic and Atmospheric Administration

[I.D.040300B]

Marine Mammals; File No. 526-1523-00

AGENCY: National Marine Fisheries Service (NMFS), National Oceanic and Atmospheric Administration (NOAA), Commerce.

ACTION: Receipt of application.

SUMMARY: Notice is hereby given that Allied Whale, College of the Atlantic, 105 Eden Street, Bar Harbor, ME 04609 (Principal Investigator: Sean K. Todd, Ph.D.), has applied in due form for a permit to take humpback whale (Megapteray novaeangliaey), finback whale (Balaenopteray physalusy), and minke whale (Galaenopteray acutorostratay) for purposes of scientific research.

DATES: Written or telefaxed comments must be received on or before May 15, 2000.

ADDRESSES: The application and related documents are available for review upon written request or by appointment in the following office(s):

Permits and Documentation Division, Office of Protected Resources, NMFS, 1315 East-West Highway, Room 13130, Silver Spring, MD 20910 (301/713-2289); and

Northeast Region, NMFS, One Blackburn Drive, Gloucester, MA 01930, (978/281-9250).

FOR FURTHER INFORMATION CONTACT: Ruth Johnson, 301/713-2289.

SUPPLEMENTARY INFORMATION: The subject permit is requested under the authority of the Marine Mammal Protection Act of 1972, as amended (MMPA; 16 U.S.C. 1361 ety seqy.), the Regulations Governing the Taking and Importing of Marine Mammals (50 CFR part 216), the Endangered Species Act of 1973, as amended (ESA; 16 U.S.C. 1531 ety seqy.), and the regulations governing the taking, importing, and exporting of endangered and threatened species (50 CFR 222-226).

The applicant proposes to continue and extend photo-identification and biopsy sampling program of large whales. The following table outlines the animals to be taken and types of take requested annually primarily in the Gulf of Maine and occasionally from the New York Bight to the U.S./Canada border.

Species | # Photo-ID | #Animals Biopsy Sampled | #Takes per animal | #Incidental harassment of target species | #Biopsy samples Import/ Canada
Humpback whale | 200 | 50 | 5 | 300 | 50
Finback whale | 200 | 50 | 5 | 400 | 50
Minke whale | 50 | 15 | 5 | 75 | 50

Non-Target Species | # Non-Target Animals Incidentally harassed
Harbor porpoise | Unlimited
Atlantic white-sided dolphin | ”
Harbor seal | ”
Gray seal | ”

In compliance with the National Environmental Policy Act of 1969 (42 U.S.C. 4321 ety seqy.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: April 4, 2000.
Ann D. Terbush,
Chief, Permits and Documentation Division, Office of Protected Resources, National Marine Fisheries Service.

[FR Doc. 00-9124 Filed 4-12-00; 8:45 am]

BILLING CODE 3510-22-F